DEPARTMENT OF TRANSPORTATION

Federal Aviation Administration

14 CFR Part 39

[Docket No. 99-NE-41-AD]

RIN 2120-AA64

Airworthiness Directives; General Electric Company (GE) CF6-80A1/A3 and CF6-80C2A Series Turbofan Engines, Installed on Airbus Industrie A300-600 and A310 Series Airplanes

AGENCY: Federal Aviation Administration (FAA), DOT.

ACTION: Notice of proposed rulemaking (NPRM).

SUMMARY: The FAA proposes to supersede an existing airworthiness directive (AD) for GE CF6-80A1/A3 and CF6-80C2A series turbofan engines. That AD currently requires one of the following before further flight:

• Performing a directional pilot valve (DPV) pressure check for leakage, and, if necessary, replacing the DPV assembly with a serviceable assembly, or

• Replacing the DPV assembly with a serviceable assembly, or

• Deactivating the thrust reverser, and revising the FAA-approved airplane flight manual (AFM) to require applying performance penalties for certain takeoff conditions if a thrust reverser is deactivated.

That AD also requires revising the Emergency Procedures Section of the FAA-approved AFM to include a flight crew operational procedure in the event of any indication of an in-flight thrust reverser deployment. This proposed AD would require the same requirements for leak checks, but would increase the interval between required checks. This proposed AD would also remove the requirement to revise the Limitations Section and the Emergency Procedures Section of the applicable AFM when deactivating one or both thrust reversers. This proposed AD results from revisions to the manufacturer's alert service bulletins (ASBs). We are proposing this AD to prevent inadvertent thrust reverser deployment, which, if it occurs in-flight, could result in loss of control of the airplane.

DATES: We must receive any comments on this proposed AD by September 27, 2004.

ADDRESSES: Use one of the following addresses to submit comments on this proposed AD:

• By mail: Federal Aviation Administration (FAA), New England Region, Office of the Regional Counsel, Attention: Rules Docket No. 99-NE-41-AD, 12 New England Executive Park, Burlington, MA 01803-5299.

• By fax: (781) 238-7055.

• By e-mail: 9-ane-adcomment@faa.gov.

You can get the service information identified in this proposed AD from Middle River Aircraft Systems, Mail Point 46, 103 Chesapeake Park Plaza, Baltimore, MD 21220-4295, attn: Product Support Engineering; telephone (410) 682-0093, fax (410) 682-0100.

You may examine the AD docket at the FAA, New England Region, Office of the Regional Counsel, 12 New England Executive Park, Burlington, MA.

FOR FURTHER INFORMATION CONTACT: Karen Curtis, Aerospace Engineer, Engine Certification Office, FAA, Engine and Propeller Directorate, 12 New England Executive Park, Burlington, MA 01803-5299; telephone (781) 238-7192; fax (781) 238-7199.

SUPPLEMENTARY INFORMATION:

Comments Invited

We invite you to submit any written relevant data, views, or arguments regarding this proposal. Send your comments to an address listed under ADDRESSES. Include “AD Docket No. 99-NE-41-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On August 26, 1999, the FAA issued AD 99-18-19, Amendment 39-11285; (64 FR 48277, September 23, 1999). That AD requires:

• Before further flight, performing a DPV pressure check for leakage, and, if necessary, replacing the DPV assembly with a serviceable assembly and performing an operational check of the thrust reverser, or

• Before further flight, replacing the DPV assembly with a serviceable assembly and performing an operational check of the thrust reverser, or

• Before further flight, deactivating the thrust reverser and revising the FAA-approved AFM for airplanes equipped with these engines to require performance penalties for certain takeoff conditions if a thrust reverser is deactivated.

• Thereafter, that AD requires one of those actions at intervals not to exceed 700 hours time-in-service; and

• Before further flight, revising the Emergency Procedures Section of the FAA approved AFM to include a flight crew operational procedure in the event of any indication of an in-flight thrust reverser deployment.

That AD was the result of a report of inadvertent thrust reverser deployment on an Airbus Industrie A300-600 series airplane powered by Pratt & Whitney engines. That condition, if not corrected, could result in inadvertent thrust reverser deployment, which, if it occurs in-flight, could result in loss of control of the airplane.

Actions Since AD 99-18-19 Was Issued

Since we issued that AD, Airbus Industrie, the airplane manufacturer, revised the master minimum equipment list (MMEL) to include procedures for operating the airplane with the thrust reversers deactivated, and revised the AFM to include procedures for emergency operation if the thrust reversers deploy while in flight. Also, the engine manufacturer has recommended extending the interval between inspecting or replacing the DPV.

Relevant Service Information

We have reviewed and approved the technical contents of Middle River Aircraft Systems Alert Service Bulletin (ASB) CF6-80C2A SB 78A1081, Revision 2, dated September 17, 2003; and ASB CF6-80A1/A3 SB 78A4022, Revision 2, dated September 17, 2003; that describe procedures for performing the leak check on the DPV and for performing a fan reverser operational check.

FAA's Determination and Requirements of the Proposed AD

We have evaluated all pertinent information and identified an unsafe condition that is likely to exist or develop on other products of this same type design. Therefore, we are proposing this AD, which would require:

• Before further flight, performing an initial leak check on the DPV, or

• Before further flight, replacing the DPV with a serviceable DPV, or

• Before further flight, deactivating the thrust reverser, and

• Repeating the above requirements at intervals within 1,400 hours TIS since the last action.

The proposed AD would require that you do these actions using the service information described previously.

Costs of Compliance

There are about 544 engines of the affected design in the worldwide fleet. We estimate that 192 engines installed on airplanes of U.S. registry would be affected by this proposed AD. We also estimate that it would take about 1 work hour per engine to perform the proposed actions (about 227 per year), and that the average labor rate is $65 per work hour. Required parts would cost approximately $12,000 per engine. We estimate that operators would replace 9 percent of the existing DPVs. Based on these figures, we estimate the total cost of the proposed AD to U.S. operators to be $259,915.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 99-NE-41-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11285 (64 FR 48277, September 23, 1999) and by adding a new airworthiness directive to read as follows:

General Electric Company: Docket No. 99-NE-41-AD. Supersedes AD 99-18-19, Amendment 39-11285.

Comments Due Date

(a) The Federal Aviation Administration (FAA) must receive comments on this airworthiness directive (AD) action by September 27, 2004.

Affected ADs

(b) This AD supersedes AD 99-18-19, Amendment 39-11285.

Applicability

(c) This AD applies to General Electric Company (GE) CF6-80A1/A3 and CF6-80C2A series turbofan engines. These engines are installed on, but not limited to, Airbus Industrie A300-600 and A310 series airplanes.

Unsafe Condition

(d) This AD results from revisions to the manufacturer's alert service bulletins (ASBs). We are issuing this AD to prevent inadvertent thrust reverser deployment, which, if it occurs in-flight, could result in loss of control of the airplane.

Compliance

(e) You are responsible for having the actions required by this AD performed within the compliance times specified unless the actions have already been done.

Credit for Initial Actions

(f) Performing the initial actions using Middle River Aircraft Systems (MRAS) Alert Service Bulletin (ASB) CF6-80A1/A3 SB 78A4022, Revision 2, dated September 17, 2003, or earlier revision or MRAS ASB CF6-80C2A SB 78A1081, Revision 2, dated September 17, 2003, or earlier revision, satisfies the requirements of paragraphs (g) and (i) of this AD.

GE CF6-80A1/A3 Series Engines Initial Actions

(g) For GE CF6-80A1/A3 series engines, do either (g)(1) or (g)(2) of this AD.

(1) Before further flight, perform a pressure check of the directional pilot valve (DPV) for leakage. Use 2.B.(1) through 2.B.(12) of the Accomplishment Instructions of MRAS ASB CF6-80A1/A3 SB 78A4022, Revision 2, dated September 17, 2003, and if necessary, do either of the following:

(i) Replace the DPV assembly with a serviceable assembly and perform an operational check of the thrust reverser. Use 2.C.(1) through 2.C.(7) of the Accomplishment Instructions of MRAS ASB CF6-80A1/A3 SB 78A4022, Revision 2, dated September 17, 2003, or

(ii) Deactivate the thrust reverser and do the following:

(A) Replace the DPV with a serviceable DPV within 10 calendar days.

(B) Perform an operational check of the thrust reverser. Use 2.C.(1) through 2.C.(7) of the Accomplishment Instructions of MRAS ASB CF6-80A1/A3 SB 78A4022, Revision 2, dated September 17, 2003.

(2) Before further flight, replace the DPV assembly with a serviceable assembly, and perform an operational check of the thrust reverser. Use 2.C.(1) through 2.C.(7) of the Accomplishment Instructions of MRAS ASB CF6-80A1/A3 SB 78A4022, Revision 2, dated September 17, 2003.

GE CF6-80A1/A3 Series Engines Repetitive Actions

(h) For GE CF6-80A1/A3 series engines, do either (h)(1) or (h)(2) of this AD within 1,400 hours time-in-service (TIS) since the last action.

(1) Perform a pressure check of the DPV for leakage. Use 2.B.(1) through 2.B.(12) of the Accomplishment Instructions of MRAS ASB CF6-80A1/A3 SB 78A4022, Revision 2, dated September 17, 2003, and if necessary, do either of the following:

(i) Replace the DPV assembly with a serviceable assembly and perform an operational check of the thrust reverser. Use 2.C.(1) through 2.C.(7) of the Accomplishment Instructions of MRAS ASB CF6-80A1/A3 SB 78A4022, Revision 2, dated September 17, 2003, or

(ii) Deactivate the thrust reverser and do the following:

(A) Replace the DPV with a serviceable DPV within 10 calendar days.

(B) Perform an operational check of the thrust reverser. Use 2.C.(1) through 2.C.(7) of the Accomplishment Instructions of MRAS ASB CF6-80A1/A3 SB 78A4022, Revision 2, dated September 17, 2003.

(2) Replace the DPV assembly with a serviceable assembly, and perform an operational check of the thrust reverser. Use 2.C.(1) through 2.C.(7) of the Accomplishment Instructions of MRAS ASB CF6-80A1/A3 SB 78A4022, Revision 2, dated September 17, 2003.

GE CF6-80C2A Series Engines Initial Actions

(i) For GE CF6-80C2A series engines, do either (i)(1) or (i)(2) of this AD.

(1) Before further flight, perform a pressure check of the directional pilot valve (DPV) for leakage. Use 2.B.(1) through 2.B.(12) of the Accomplishment Instructions of MRAS ASB CF6-80C2A SB 78A1081, Revision 2, dated September 17, 2003, and if necessary, do either of the following:

(i) Replace the DPV assembly with a serviceable assembly and perform an operational check of the thrust reverser. Use 2.C.(1) through 2.C.(5) of the Accomplishment Instructions of MRAS ASB CF6-80C2A SB 78A1081, Revision 2, dated September 17, 2003, or

(ii) Deactivate the thrust reverser and do the following:

(A) Replace the DPV with a serviceable DPV within 10 calendar days.

(B) Perform an operational check of the thrust reverser. Use 2.C.(1) through 2.C.(5) of the Accomplishment Instructions of MRAS ASB CF6-80C2A SB 78A1081, Revision 2, dated September 17, 2003.

(2) Before further flight, replace the DPV assembly with a serviceable assembly, and perform an operational check of the thrust reverser. Use 2.C.(1) through 2.C.(5) of the Accomplishment Instructions of MRAS ASB CF6-80C2A SB 78A4022, Revision 2, dated September 17, 2003.

GE CF6-80C2A Series Engines Repetitive Actions

(j) For GE CF6-80C2A series engines, do either (j)(1) or (j)(2) of this AD within 1,400 hours TIS since the last action.

(1) Perform a pressure check of the DPV for leakage. Use 2.B.(1) through 2.B.(12) of the Accomplishment Instructions of MRAS ASB CF6-80C2A SB 78A1081, Revision 2, dated September 17, 2003, and if necessary, do either of the following:

(i) Replace the DPV assembly with a serviceable assembly and perform an operational check of the thrust reverser. Use 2.C.(1) through 2.C.(5) of the Accomplishment Instructions of MRAS ASB CF6-80C2A SB 78A1081, Revision 2, dated September 17, 2003, or

(ii) Deactivate the thrust reverser and do the following:

(A) Replace the DPV with a serviceable DPV within 10 calendar days.

(B) Perform an operational check of the thrust reverser. Use 2.C.(1) through 2.C.(5) of the Accomplishment Instructions of MRAS ASB CF6-80C2A SB 78A1081, Revision 2, dated September 17, 2003.

(2) Replace the DPV assembly with a serviceable assembly, and perform an operational check of the thrust reverser. Use 2.C.(1) through 2.C.(5) of the Accomplishment Instructions of MRAS ASB CF6-80C2A SB 78A1081, Revision 2, dated September 17, 2003.

Definition of Serviceable DPV Assembly

(k) For the purpose of this AD, a serviceable DPV assembly is:

(1) An assembly that has accumulated zero time in service, or

(2) An assembly that has accumulated zero time in service after having passed the tests in the MRAS Component Maintenance Manual GEK 85007 (78-31-51), Revision No. 6 or later, Directional Pilot Valve, Page Block 101, Testing and Troubleshooting, or

(3) An assembly that has been successfully leak checked using Paragraph 2.B. of the Accomplishment Instructions of MRAS ASB No. 78A4022, Revision 2, dated September 17, 2003, or earlier revision, or ASB No. 78A1081, Revision 2, dated September 17, 2003, or earlier revision, as applicable, immediately before installation on the airplane.

Alternative Methods of Compliance

(l) The Manager, Engine Certification Office, has the authority to approve alternative methods of compliance for this AD if requested using the procedures found in 14 CFR 39.19.

Material Incorporated by Reference

(m) None.

Related Information

(n) None.

Issued in Burlington, Massachusetts, on July 22, 2004.
Francis A. Favara,
Acting Manager, Engine and Propeller Directorate, Aircraft Certification Service.

[FR Doc. 04-17284 Filed 7-28-04; 8:45 am]

BILLING CODE 4910-13-P